DEPARTMENT OF HEALTH AND HUMAN SERVICES

National Institutes of Health

National Institute on Alcohol Abuse and Alcoholism; Amended Notice of Meeting

Notice is hereby given of a change in the meeting of the Clinical and Treatment Subcommittee, March 1, 2007, 8:30 a.m. to March 2, 2007, 5 p.m., Double Tree Rockville, 1750 Rockville Pike, Rockville, MD 20852 which was published in the Federal Register on December 7, 2006, 71 FR 75262.

New meeting location will be at Residence Inn Bethesda, 7335 Wisconsin Avenue, Bethesda, MD 20814. The meeting is closed to the public.

Dated: February 7, 2007.
Anna Snouffer
Acting Director, Office of Federal Advisory Committee Policy.

[FR Doc. 07-647 Filed 2-13-07; 8:45 am]

BILLING CODE 4140-01-M